DEPARTMENT OF EDUCATION

Submission for OMB Review; Comment Request

AGENCY: Department of Education.

ACTION: Correction notice.

SUMMARY: On November 22, 2002, the Department of Education published a 30-day public comment period notice in the Federal Register (page 70415, column 2) for the information collection, “Tech-Prep Demonstration Grants”. Under Type of Review, the correct type of information collection should be Revision, not Reinstatement. The Leader, Regulatory Management Group, Office of the Chief Information Officer, hereby issues a correction notice as required by the Paperwork Reduction Act of 1995.

FOR FURTHER INFORMATION CONTACT: Sheila Carey at her e-mail address Sheila.Carey@ed.gov.

Dated: November 26, 2002.
John D. Tressler,
Leader, Regulatory Management Group, Office of the Chief Information Officer.

[FR Doc. 02-30541 Filed 12-2-02; 8:45 am]

BILLING CODE 4000-01-P